DEPARTMENT OF TRANSPORTATION

Federal Aviation Administration

14 CFR Part 39

[Docket No. 2002-SW-46-AD; Amendment 39-12910; AD 2002-21-04]

RIN 2120-AA64

Airworthiness Directives; Agusta S.p.A. Model A119 Helicopters

AGENCY: Federal Aviation Administration, DOT.

ACTION: Final rule; request for comments.

SUMMARY: This amendment supersedes an existing emergency airworthiness directive (EAD) for Agusta S.p.A. (Agusta) Model A119 helicopters. EAD 2002-17-52, which was issued on August 21, 2002, was sent to all known U.S. owners and operators of Agusta Model A119 helicopters by individual letters. That AD currently requires installing a placard in the helicopter and marking the airspeed indication at 132 knots indicated airspeed (KIAS) before further flight; visually checking the tail rotor blades on both sides for a crack before each start of the helicopter engine; visually inspecting the tail rotor blades with a 5x or higher magnifying glass and conducting a dye-penetrant inspection if you are unable to determine by the visual inspection whether or not there is a crack; replacing any cracked tail rotor blade; modifying the tail rotor hub and blade assembly, reidentifying the modified tail rotor hub and grips assembly and the modified tail rotor hub and blade assembly, which is a terminating action for the never-exceed speed (Vne) reduction; and establishing a retirement life for the tail rotor control rod. This amendment requires the same actions as that EAD, but corrects the airspeed indication marking, which should have been stated as 122 KIAS instead of 132 KIAS. This amendment is prompted by the failure of a tail rotor blade due to a fatigue crack. The actions specified by this AD are intended to prevent failure of the tail rotor blade and subsequent loss of control of the helicopter.

DATES: Effective October 31, 2002.

The incorporation by reference of certain publications listed in the regulations is approved by the Director of the Federal Register as of October 31, 2002.

Comments for inclusion in the Rules Docket must be received on or before December 16, 2002.

ADDRESSES: Submit comments in triplicate to the Federal Aviation Administration (FAA), Office of the Regional Counsel, Southwest Region, Attention: Rules Docket No. 2002-SW-46-AD, 2601 Meacham Blvd., Room 663, Fort Worth, Texas 76137. You may also send comments electronically to the Rules Docket at the following address: 9-asw-adcomments@faa.gov.

The applicable service information may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: On July 9, 2002, the FAA issued Emergency AD 2002-14-51, Docket No. 2002-SW-35-AD, which applied to Agusta Model A109E and A119 helicopters with tail rotor blade, part number (P/N) 109-8132-01-111, installed. That AD required, before each flight, visually checking each tail rotor blade on both sides for a crack. That AD also required, within 5 hours TIS and thereafter at intervals not to exceed 5 hours TIS, inspecting each tail rotor blade for a crack with a 5x or higher magnifying glass. If you were unable to determine by the visual inspection whether there was a crack, the AD required conducting a dye-penetrant inspection. Replacing any cracked tail rotor blade with an airworthy blade was also required before further flight. After issuance of that EAD, the manufacturer determined, and we agreed, that reducing the Vne to 122 KIAS is necessary to reduce the tail rotor loading until the tail rotor hub and blade assembly, P/N 109-8131-02-149, is modified and reidentified as P/N 109-8131-02-155. Further, we determined that additional tail rotor hub and blades assembly modifications were necessary for the Agusta Model A119 helicopters that are not required for the Model A109E helicopters, so we superseded AD 2002-14-51 and issued a separate AD for each model. EAD 2002-17-52, issued on August 21, 2002, is applicable to Agusta Model A119 helicopters. That EAD requires reducing the helicopter Vne; checking and inspecting the tail rotor blades for cracks; replacing any cracked tail rotor blades; modifying and reidentifying certain assemblies; and establishing a retirement life for the tail rotor control rod.

Since the issuance of EAD 2002-17-52, we have determined that we incorrectly stated the KIAS that should be marked on the helicopter airspeed indicator. The EAD stated that the airspeed indication should be marked at 132 KIAS; it should be marked at 122 KIAS.

The FAA has reviewed Agusta Alert Bollettino Tecnico No. 119-6, Revision A, dated July 12, 2002 (BT), which describes procedures for checking and inspecting both sides of the tail rotor blades, P/N 109-8132-01-111, for a crack, reducing the helicopter Vne, modifying the tail rotor hub and blade assembly, and establishing a retirement life for the tail rotor control rod. The Ente Nazionale per l'Aviazione Civile (ENAC), which is the airworthiness authority for Italy, classified the BT as mandatory and issued AD No. 2002-367, dated July 16, 2002, to ensure the continued airworthiness of these helicopters in Italy.

This helicopter model is manufactured in Italy and is type certificated for operation in the United States under the provisions of 14 CFR 21.29 and the applicable bilateral agreement. Pursuant to the applicable bilateral agreement, ENAC has kept the FAA informed of the situation described above. The FAA has examined the findings of ENAC, reviewed all available information, and determined that AD action is necessary for products of this type design that are certificated for operation in the United States.

Since an unsafe condition has been identified that is likely to exist or develop on other Agusta Model A119 helicopters of the same type design, this AD supersedes EAD 2002-17-52 to require reducing the helicopter Vne; checking and inspecting the tail rotor blades for cracks; replacing any cracked tail rotor blades; modifying and reidentifying certain assemblies; and establishing a retirement life for the tail rotor control rod. The actions must be accomplished in accordance with the BT described previously. The short compliance time involved is required because the previously described critical unsafe condition can adversely affect the controllability of the helicopter. Therefore reducing the helicopter Vne; checking and inspecting the tail rotor blades for cracks; replacing any cracked tail rotor blades; modifying and reidentifying certain assemblies; and establishing a retirement life for the tail rotor control rod are required before further flight, and this AD must be issued immediately.

An owner/operator (pilot) may perform the visual check required by paragraph (b) of this AD and must enter compliance with that paragraph into the helicopter maintenance records in accordance with 14 CFR 46.11 and 91.417(a)(2)(v). A pilot may perform this check because it involves only a visual check for a crack in the tail rotor blade and can be performed equally well by a pilot or a mechanic.

Since a situation exists that requires the immediate adoption of this regulation, it is found that notice and opportunity for prior public comment hereon are impracticable, and that good cause exists for making this amendment effective in less than 30 days.

The FAA estimates that 5 helicopters of U.S. registry will be affected by this AD. It will take approximately 1 work hour to install a placard on each helicopter, 0.5 work hour to perform each enhanced visual inspection, 1 work hour to perform each dye-penetrant inspection, 1 work hour to replace a blade, if necessary, and 6 work hours to replace both grip and bushing assemblies. The average labor rate is $60 per work hour. Required parts will cost approximately $9,765 per blade, if necessary, and $9,830 for each grip and bushing assembly. The manufacturer states in its BT that they will provide a new grip and bushing assembly to customers at no charge. Based on these figures, the total cost impact of the AD on U.S. operators is estimated to be $81,685 per year, assuming that each helicopter, per year, flies 600 hours, gets 24 enhanced inspections, gets 24 dye-penetrant inspections, requires one blade replacement, and has both new grip and bushing assemblies installed.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-46-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2002-21-04 Agusta S.p.A.: Amendment 39-12910. Docket No. 2002-SW-46-AD. Supersedes Emergency AD 2002-17-52, Docket No. 2002-SW-43-AD and EAD 2002-14-51, Docket No. 2002-SW-35-AD.

Applicability: Model A119 helicopters with hub and tail rotor blades assembly, part number (P/N) 109-8131-02-149, or tail rotor blades, P/N 109-8132-01-111, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (i) of this AD. The request should include an assessment of the effect of the modification, alteration, or repair on the unsafe condition addressed by this AD; and if the unsafe condition has not been eliminated, the request should include specific proposed actions to address it.

Compliance: Required as indicated, unless accomplished previously.

To prevent failure of the tail rotor blade and subsequent loss of control of the helicopter, accomplish the following:

(a) Before further flight, install a placard in the helicopter and mark the airspeed indicator at 122 knots indicated airspeed (KIAS) to indicate a reduction in the helicopter never exceed speed (Vne) by 30 KIAS. Make and install the placard in accordance with the Compliance Instructions, Part I, of Agusta Alert Bollettino Tecnico No. 119-6, Revision A, dated July 12, 2002 (BT). On the glass of the airspeed indicator, apply a red mark over the value of 122 KIAS.

(b) Before each start of the helicopter engine, visually check both sides of each tail rotor blade for a crack in the area depicted in Figure 1 of this AD. An owner/operator (pilot) holding at least a private pilot certificate may perform this visual check and must enter compliance with this paragraph into the aircraft maintenance records in accordance with 14 CFR 43.11 and 91.417(a)(2)(v). See Figure 1:

Note 2: Paint irregularities on the tail rotor blade may be due to a crack.

(c) Within 25 hours time-in-service (TIS), and thereafter at intervals not to exceed 25 hours TIS, and any time an increase in vibration levels occur, using a 5x or higher magnifying glass, visually inspect each tail rotor blade for a crack in accordance with the Compliance Instructions, Part III, paragraphs 1. through 5., of the BT. Reporting to Agusta Service Engineering is not required. If you are unable to determine by the visual inspection whether there is a crack, dye penetrant inspect the tail rotor blade for a crack in accordance with the Compliance Instructions, Part III, paragraph 6., of the BT.

(d) Replace any cracked tail rotor blade with an airworthy blade before further flight.

(e) Not later than October 30, 2002, in accordance with the Compliance Instructions, Part IV, and Figure 2 of the BT:

(1) Install a new grip and bushing assembly, P/N 109-8131-02-147, into tail rotor hub and blade assembly, P/N 109-8131-02-149;

(2) Reidentify the modified tail rotor hub and grips assembly, P/N 109-8131-02-141, as P/N 109-8132-01-153; and

(3) Reidentify the modified tail rotor hub and blade assembly, P/N 109-8131-02-149, as P/N 109-8131-02-155.

Returning the grips to the manufacturer is not required by this AD.

(f) After completing the actions required by paragraph (e) of this AD, remove the Vne placard and the airspeed indicator marking at 122 KIAS that were installed in accordance with paragraph (a) of this AD. Modifying and reidentifying the parts as required by paragraph (e) of this AD is terminating actions for the requirements of paragraph (a) of this AD and restores the original Vne.

(g) After completing the actions required by paragraph (e) of this AD, establish a retirement life of 1,000 hours TIS for tail rotor control rod, P/N 109-0135-02-101.

(h) After completing the actions required by paragraph (e) of this AD, revise the helicopter Airworthiness Limitations Section of the Agusta Model A119 helicopter maintenance manual by inserting a 1,000 hour TIS retirement life for each tail rotor control rod, P/N 109-0135-02-101.

(i) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(j) Special flight permits will not be issued.

(k) Installing the placard, inspecting for cracks, modifying and reidentifying the tail rotor hub and blade assembly, and reidentifying the tail rotor hub and grip assembly shall be done in accordance with the Compliance Instructions, Part I, Part III, paragraphs 1 through 6, and Part IV, of Agusta Alert Bollettino Tecnico No. 119-6, Revision A, dated July 12, 2002. This incorporation by reference was approved by the Director of the Federal Register in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the FAA, Office of the Regional Counsel, Southwest Region, 2601 Meacham Blvd., Room 663, Fort Worth, Texas 76137; or at the Office of the Federal Register, 800 North Capitol Street, NW., suite 700, Washington, DC.

(l) This amendment becomes effective on October 31, 2002.

Note 4: The subject of this AD is addressed in Ente Nazionale per l'Aviazione Civile (Italy) AD No. 2002-367, dated July 16, 2002.

Issued in Fort Worth, Texas, on October 8, 2002.
Larry M. Kelly,
Acting Manager, Rotorcraft Directorate, Aircraft Certification Service.

[FR Doc. 02-26071 Filed 10-15-02; 8:45 am]

BILLING CODE 4910-13-P